DEPARTMENT OF ENERGY

Federal Energy Regulatory Commission

[Docket No. EC05-53-000, et al.]

Indigo Generation LLC, et al.; Electric Rate and Corporate Filings

March 1, 2005.

The following filings have been made with the Commission. The filings are listed in ascending order within each docket classification.

1. Indigo Generation LLC; Larkspur Energy LLC; Wildflower Energy, LP; Wildflower Development LLC; Wildflower Generating Partners II LLC; Mitsubishi International Corporation

[Docket No. EC05-53-000]

Take notice that on February 18, 2005, Indigo Generation LLC (Indigo Generation), Larkspur Energy LLC (Larkspur Energy), Wildflower Energy, LP, Wildflower Development LLC, Wildflower Generating Partners II LLC, and Mitsubishi International Corporation (collectively, the Applicants) submitted an application pursuant to section 203 of the Federal Power Act for authorization of a disposition of jurisdictional facilities. Applicants state that the proposed disposition of jurisdictional facilities will occur in connection with the sale by Wildflower Development LLC to its affiliate, Mitsubishi International Corporation, of an interest in Wildflower Generating Partners II LLC, which holds an ownership interest directly in Wildflower Energy, LP, and indirectly in Indigo Generation and Larkspur Energy. Indigo Generation and Larkspur Energy own and operate two gas-fired, simple-cycle, electric generating facilities in Southern California.

Comment Date: 5 p.m. Eastern Time on March 11, 2005.

2. Windy Dog—I LLC

[Docket No. EG05-43-000]

Take notice that on February 28, 2005, Windy Dog—I LLC, submitted an amendment to the application for determination of exempt wholesale generator status filed on February 10, 2005 in the above-referenced proceeding.

Comment Date: 5 p.m. Eastern Time on March 21, 2005.

3. PJM Interconnection, L.L.C.

[Docket No. EL03-236-005]

Take notice that on February 24, 2005, PJM Interconnection, L.L.C. (PJM) in compliance with the Commission's order in PJM Interconnection, L.L.C., 110 FERC ¶ 61,053 (2005) (Rehearing Order), submitted amendments to the PJM Open Access Transmission Tariff (PJM Tariff) and the Amended and Restated Operating Agreement of PJM Interconnection, L.L.C. to: (1) Eliminate the requirement that generating units proposed for deactivation can be required to operate for reliability past a reasonable notice period, (2) to eliminate the blanket exemption for post-1996 generating units from offer capping; and (3) require that certain agreements establishing offer caps using a formula rate are to be filed with the Commission for informational purposes only. Consistent with the Rehearing Order, PJM requests an effective date of January 26, 2005, for the compliance amendments.

PJM states that copies of the filing were served upon all PJM members, each entity designated on the official service list complied by the Secretary in this proceeding, and each state electric utility regulatory commission in the PJM region.

Comment Date: 5 p.m. Eastern Time on March 17, 2005.

4. Alliant Energy Corporate Services, Inc.

[Docket Nos. ER99-230-008, ER03-762-008, EL05-5-002]

Take notice that on February 18, 2005, Alliant Energy Corporate Services, Inc. submitted for filing its mitigation proposal in compliance with the requirements of the Commission's order issued December 20, 2004 in Alliant Energy Corporate Services, Inc., 109 FERC ¶ 61,289 (2004).

Comment Date: 5 p.m. Eastern Time on March 11, 2005.

5. California Electric Marketing, LLC

[Docket No. ER01-2690-004]

Take notice that on February 25, 2005, California Electric Marketing, LLC., (CalEM), in response to the Commission's deficiency letter issued January 25, 2005, submitted an amendment to its triennial updated market analysis filed September 21, 2004 and amended on November 1, 2004 and November 17, 2004.

Comment Date: 5 p.m. Eastern Time on March 18, 2005.

6. J. Aron & Company, Power Receivable Finance, LLC

[Docket Nos. ER02-237-003, ER03-1151-003]

Take notice that on February 25, 2005, J. Aron & Company and Power Receivable Finance, LLC (together, Applicants) filed with the Federal Energy Regulatory Commission an errata to the consolidated triennial updated market analysis submitted on December 30, 2004 in Docket Nos. ER02-237-002 and ER03-1151-003.

Applicants state that copies of the filing were served on parties on the official service lists in the above-captioned proceedings.

Comment Date: 5 p.m. Eastern Time on March 18, 2005.

7. Florida Power & Light Company—New England Division

[Docket No. ER04-714-003]

Take notice that on February 25, 2005, Florida Power & Light Company—New England Division submitted a compliance filing pursuant to the Commission's order issued January 26, 2005 in Docket No. ER04-714-000, 110 FERC ¶ 61,064 (2005).

Comment Date: 5 p.m. Eastern Time on March 18, 2005.

8. New York Independent System Operator, Inc.

[Docket No. ER04-943-002]

Take notice that on February 24, 2005, the New York Independent System Operator, Inc. (NYISO) filed compliance revisions to its open access transmission tariff. NYISO states that these revisions implement provisions of a filing approved by the Commission in these proceedings by order issued November 3, 2004. The NYISO has requested an effective date of December 1, 2004 for the revised tariff sheets.

The NYISO states that it has served a copy of this filing on all parties designated on the official service list maintained by the Commission in this proceeding. The NYISO further states that it will electronically serve a copy of this filing on the official representative of each of its customers, on each participant in its stakeholder committees, on the New York Public Service Commission and on the New Jersey Board of Public Utilities. The NYISO states it will serve the Pennsylvania Public Utility Commission with a hard copy of this filing, as requested by that agency.

Comment Date: 5 p.m. Eastern Time on March 17, 2005.

9. New York Independent System Operator, Inc.

[Docket No. ER04-1144-003]

Take notice that on February 25, 2005 the New York Independent System Operator, Inc. (NYISO) filed tariff amendments in compliance with the Commission's order issued December 28, 2004 in Docket Nos. ER04-1144-000 and 001, 109 FERC ¶ 61,372 (2004).

NYISO states that it has electronically served a copy of this filing on the official representative of each of its customers, on each participant in its stakeholder committees, on the New York State Public Service Commission, and on the electric utility regulatory agencies of New Jersey and Pennsylvania.

Comment Date: 5 p.m. Eastern Time on March 18, 2005.

10. Midwest Independent Transmission System Operator, Inc.; American Transmission Company LLC

[Docket No. ER04-1160-003]

Take notice that on February 25, 2005, the Midwest Independent Transmission System Operator, Inc. (Midwest ISO) and American Transmission Company LLC (ATCLLC) tendered for filing revisions to the Midwest ISO Open Access Transmission tariff in compliance with the Commission's February 16, 2005 Order in Docket Nos. ER04-1160-000 and 001, 110 FERC ¶ 61,164 (2005). Midwest ISO and ATCLLC request an effective date of October 30, 2004.

Midwest ISO and ATCLLC state that copies of the filing have been served on all parties on the official service list in this proceeding. Midwest ISO further states that it has electronically served a copy of this filing, upon all Midwest ISO members, member representatives of transmission owners and non-transmission owners, the Midwest ISO Advisory Committee participants, as well as all state commissions within the region.

Comment Date: 5 p.m. Eastern Time on March 18, 2005.

11. Klondike Wind Power II LLC

[Docket No. ER05-332-001]

Take notice that on February 24, 2005, Klondike Wind Power II LLC (Klondike II) submitted a compliance filing pursuant to the order issued February 10, 2005, Klondike Wind Power II LLC, 110 FERC ¶ 61, 105 (2005).

Comment Date: 5 p.m. Eastern Time on March 17, 2005.

12. Elk River Windfarm LLC

[Docket No. ER05-365-001]

Take notice that on February 24, 2005, Elk River Windfarm LLC (Elk River) submitted a compliance filing pursuant to the order issued February 10, 2005, Elk River Windfarm LLC, 110 FERC ¶ 61,106 (2005).

Comment Date: 5 p.m. Eastern Time on March 17, 2005.

13. Powerex Corp

[Docket No. ER05-484-001]

Take notice that on February 25, 2005, Powerex Corp. (Powerex) submitted for filing a Certificate of Concurrence with respect to the January 24, 2005 Puget Sound Energy, Inc., filing of the Agreement for a Temporary Puget Sound Area and Northern Intertie Redispatch Pilot Program in Docket No. ER05-484-000.

Powerex states that copies of the filing have been provided to Bonneville Power Administration, Puget Sound Energy, the City of Seattle, Public Utility District No. 1 of Snohomish County, and Intalco Aluminum Corporation.

Comment Date: 5 p.m. Eastern Time on March 18, 2005.

14. Virginia Electric and Power Company

[Docket No. ER05-581-001]

Take notice that on February 24, 2005, Virginia Electric and Power Company, (Dominion Virginia Power) tendered for filing an amendment to its February 15, 2005 filing in Docket No. ER05-581-000.

Dominion Virginia Power states that copies of the filing letter were served upon customers under Dominion Virginia Power's open access transmission tariff, the Virginia State Corporation Commission and the North Carolina Utilities Commission.

Comment Date: 5 p.m. Eastern Time on March 17, 2005.

15. Florida Power & Light Company

[Docket No. ER05-641-000]

Take notice that on February 24, 2005, Florida Power & Light Company (FPL) tendered for filing a fully executed agreement for interconnection among FPL, Broward Waste Energy Company, Limited Partnership (now Wheelabrator North Broward Inc.) (BWEC), and Bio-Energy Partners (BEP), dated December 19, 1988 (Agreement), and a fully executed Amendment No. 1 to the Agreement among FPL, BWEC and BEP, dated February 22, 2005. An effective date of January 1, 2005 is requested.

Comment Date: 5 p.m. Eastern Time on March 17, 2005.

16. Marina Energy, LLC

[Docket No. ER05-642-000]

Take notice that on February 24, 2005, Marina Energy, LLC (Marina) tendered for filing an agreement for the sale of capacity and energy to South Jersey Energy Company (SJE) pursuant to Marina's wholesale power market-based sales tariff. Marina requests an effective date of February 2, 2005.

Marina states that copies of the filing have been served upon SJE and the New Jersey Board of Public Utilities.

Comment Date: 5 p.m. Eastern Time on March 17, 2005.

17. PacifiCorp

[Docket No. ER05-643-000]

Take notice that on February 24, 2005, PacifiCorp tendered for filing a generation interconnection agreement between PacifiCorp and Uinta County Wind Farm LLC (Uinta). PacifiCorp also filed a notice of termination of the Uinta interconnection agreement.

Comment Date: 5 p.m. Eastern Time on March 17, 2005.

18. PSEG Energy Resources & Trade LLC, PSEG Fossil LLC

[Docket No. ER05-644-000]

Take notice that on February 24, 2005, PSEG Energy Resources & Trade LLC (PSEG ER&T) and PSEG Fossil LLC (PSEG Fossil) (collectively, PSEG Companies) submitted for filing a cost of service recovery rate tariff for reliability services to be provided by PSEG ER&T to PJM Interconnection, L.L.C. PSEG Companies state that the tariff provides the charges associated with the provision of reliability services by PSEG ER&T to PJM from two generation plants in New Jersey. PSEG Companies request an effective date of February 25, 2005.

Comment Date: 5 p.m. Eastern Time on March 17, 2005.

19. American Transmission Company LLC

[Docket No. ER05-645-000]

Take notice that on February 24, 2005, the American Transmission Company LLC (ATCLLC) tendered for filing a distribution-transmission interconnection agreement between ATCLLC and Black Earth Electric Utilities, as local distribution company. ATCLLC requests an effective date of February 14, 2005.

Comment Date: 5 p.m. Eastern Time on March 17, 2005.

20. American Transmission Company LLC

[Docket No. ER05-646-000]

Take notice that on February 24, 2005, the American Transmission Company LLC (ATCLLC) tendered for filing a distribution-transmission interconnection agreement between ATCLLC and Hartford Electric, as local distribution company. ATCLLC requests an effective date of February 14, 2005.

Comment Date: 5 p.m. Eastern Time on March 17, 2005.

21. PacifiCorp

[Docket No. ER05-647-000]

Take notice that on February 25, 2005, PacifiCorp tendered for filing revisions to section 17.7 of its open access transmission tariff, FERC Electric Tariff, Fifth Revised Volume No. 11 to adopt the Commission's pro forma section 17.7 language.

PacifiCorp states that copies of this filing were supplied to the Public Utility Commission of Oregon and the Washington Utilities and Transportation Commission. PacifiCorp further states that its existing transmission customers were notified by e-mail.

Comment Date: 5 p.m. Eastern Time on March 18, 2005.

22. FPL Energy Seabrook, LLC

[Docket No. ER05-648-000]

Take notice that on February 25, 2005 FPL Energy Seabrook, LLC submitted a request to increase prior authorization to sell energy, capacity and ancillary services at market-based rates.

FPL Energy Seabrook LLC states that copies of the filing were served upon the Florida Public Service Commission.

Comment Date: 5 p.m. Eastern Time on March 18, 2005.

23. South Carolina Electric & Gas Company

[Docket No. ER05-649-000]

Take notice that on February 25, 2005, South Carolina Electric & Gas Company filed amended tariff sheets to the pro forma standard large generator interconnection procedures and standard large generator interconnection agreement set out in Order No. 2003-B, Standardization of Interconnection Agreements and Procedures, 109 FERC ¶ 61,287 (2004).

Comment Date: 5 p.m. Eastern Time on March 18, 2005.

24. Lighthouse Energy Trading Company, Inc.

[Docket Nos. ER05-655-000, ER01-174-002]

Take notice that on February 25, 2005, Lighthouse Energy Trading Company, Inc. tendered for filing a triennial updated market power study. In addition, Lighthouse filed to amend its tariff to: (1) Allow it to sell ancillary services at wholesale at market-based rates and to reassign transmission capacity; (2) seek prior Commission approval before sales to any affiliated franchised public utilities; (3) include the Market Behavior Rules in its market-based rate tariff; and (4) include a tariff provision committing Lighthouse to abide by the change in status reporting requirements recently adopted by the Commission in Order No. 652.

Comment Date: 5 p.m. Eastern Time on March 18, 2005.

25. Calpine King City Cogen, LLC

[Docket No. QF85-735-006]

Take notice that on February 24, 2005, Calpine King City Cogen, LLC, 50 W. San Fernando Street, San Jose, California 95113, submitted an amendment to its application for recertification of a facility as a qualifying cogeneration facility filed on November 16, 2004.

Comment Date: 5 p.m. Eastern Time on March 28, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-937 Filed 3-7-05; 8:45 am]

BILLING CODE 6717-01-P